DEPARTMENT OF HOMELAND SECURITY

Federal Emergency Management Agency

[Docket ID FEMA-2020-0002; Internal Agency Docket No. FEMA-B-2051]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 15, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2051, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Shasta County, California and Incorporated Areas
Project: 18-09-0011S Preliminary Date: April 23, 2020
Unincorporated Areas of Shasta County | Resource Management & Public Works Building, 1855 Placer Street, Redding, CA 96001.
Pennington County, Minnesota and Incorporated Areas
Project: 17-05-1532S Preliminary Date: March 31, 2020
City of Goodridge | City Hall, 305 Vaughn Main Street East, Goodridge, MN 56725.
City of St. Hilaire | City Hall, 302 Broadway Avenue North, St. Hilaire, MN 56754.
City of Thief River Falls | City Hall, 405 Third Street East, Thief River Falls, MN 56701.
Red Lake Band of Chippewa Tribe | Red Lake Nation Government Center, 15484 Migizi Drive, Red Lake, MN 56671.
Unincorporated Areas of Pennington County | Pennington County Courthouse, 101 Main Avenue North, Thief River Falls, MN 56701.
Clinton County, New York (All Jurisdictions)
Project: 18-02-0003S Preliminary Date: February 27, 2020
City of Plattsburgh | City Hall, 41 City Hall Place, Plattsburgh, NY 12901.
Town of Altona | Town Hall, 3124 Miner Farm Road, Altona, NY 12910.
Town of Ausable | Ausable Town Hall, 111 Ausable Street, Keeseville, NY 12944.
Town of Beekmantown | Beekmantown Town Hall, 571 Spellman Road, West Chazy, NY 12992.
Town of Black Brook | Black Brook Town Hall, 18 North Main Street, Ausable Forks, NY 12912.
Town of Champlain | Town Hall, 10729 Route 9, Champlain, NY 12919.
Town of Chazy | Town Hall, 9631 State Route 9, Chazy, NY 12921.
Town of Clinton | Churubusco Town Hall, 23 Smith Street, Churubusco, NY 12923.
Town of Dannemora | Town of Dannemora, 78 Higby Road, Ellenburg Depot, NY 12935.
Town of Ellenburg | Ellenburg Town Municipal Building, 16 St. Edmunds Way, Ellenburg Center, NY 12934.
Town of Mooers | Town Hall, 2508 State Route 11, Mooers, NY 12958.
Town of Peru | Town Hall, 3036 Main Street, Peru, NY 12972.
Town of Plattsburgh | Town Hall, 151 Banker Road, Plattsburgh, NY 12901.
Town of Saranac | Town Hall, 3662 Route 3, Saranac, NY 12981.
Town of Schuyler Falls | Schuyler Falls Town Hall, 997 Mason Street, Morrisonville, NY 12962.
Village of Champlain | Village of Champlain Office, 11104 Route 9, Champlain, NY 12919.
Village of Dannemora | Village Office, 40 Emmons Street, Dannemora, NY 12929.
Village of Rouses Point | Village Office, 139 Lake Street, Rouses Point, NY 12979.

[FR Doc. 2020-20349 Filed 9-15-20; 8:45 am]

BILLING CODE 9110-12-P